DEPARTMENT OF HOUSING AND URBAN DEVELOPMENT

[Docket No. FR-5865-D-02]

Order of Succession for the Office of Public and Indian Housing

AGENCY: Office of the Secretary, HUD.

ACTION: Notice of order of succession for the Office of Public and Indian Housing.

SUMMARY: In this notice, the Secretary designates the order of succession for the Office of Public and Indian Housing. This order of succession revokes and supersedes all prior orders of succession for the Office of Public and Indian Housing, including the Order of Succession published on August 4, 2011.

DATES: Effective upon date of signature.

FOR FURTHER INFORMATION CONTACT: Linda Bronsdon, Office of Policy, Program and Legislative Initiatives, Office of Public and Indian Housing, Department of Housing and Urban Development, 490 L'Enfant Plaza, Washington, DC 20024, email address Linda.K.Bronsdon@hud.gov, telephone 202-402-3494. (This is not a toll-free number.) This number may be accessed through TTY by calling the toll-free Federal Relay Service telephone number 1-800-877-8339.

SUPPLEMENTARY INFORMATION: The Secretary is issuing this order of succession of officials to perform the duties and functions of the Office of the Assistant Secretary for Public and Indian Housing when the Assistant Secretary is not available to exercise the powers or perform the duties of the office. This publication revokes and supersedes all prior orders of succession for the Office of Public and Indian Housing, including the order of succession published on August 4, 2011 at 76 FR 47227.

Section A. Order of Succession

During any period when the Assistant Secretary is not available to exercise the powers or perform the duties of the Assistant Secretary of PIH, the following officials within PIH are hereby designated to exercise the powers and perform the duties of the Assistant Secretary for PIH including the authority to waive regulations:

(1) Principal Deputy Assistant Secretary for Public and Indian Housing;

(2) General Deputy Assistant Secretary for Public and Indian Housing;

(3) Deputy Assistant Secretary for Public Housing and Voucher Programs;

(4) Deputy Assistant Secretary for Public Housing Investments;

(5) Deputy Assistant Secretary for Field Operations;

(6) Deputy Assistant Secretary for the Real Estate Assessment Center;

(7) Deputy Assistant Secretary for Office of Native American Programs;

(8) Deputy Assistant Secretary for Policy, Programs and Legislative Initiatives.

These officials shall perform the functions and duties of the office in the order specified herein, and no official shall serve unless all the other officials, whose position precede his/hers in this order, are not available to act by reason of absence, disability or vacancy in office.

Section B. Authority Superseded

This order of succession supersedes all prior orders of succession for the Office of Public and Indian Housing, including the order of succession published on August 4, 2011 at 76 FR 47227.

Authority: Section 7(d), Department of Housing and Urban Development Act, 42 U.S.C. 3535(d).

Dated: March 25, 2015.
Julián Castro,
Secretary of Housing and Urban Development.

[FR Doc. 2015-07914 Filed 4-6-15; 8:45 am]

BILLING CODE CODE 4210-67-P